DEPARTMENT OF LABOR

Employment and Training Administration

[TA-W-61,584]

Randstad Inhouse Services On-Site Leased Workers at Maytag Corporation, Newton, IA; Notice of Termination of Investigation

Pursuant to section 221 of the Trade Act of 1974, as amended, an investigation was initiated on March 26, 2007 in response to a petition filed on behalf of workers of Randstad Inhouse Services, on-site leased workers at Maytag Corporation, Newton, Iowa.

The petitioning group of workers is covered by an active certification (TA-W-60,515 as amended) which expires on December 26, 2008. Consequently, further investigation in this case would serve no purpose, and the investigation has been terminated.

Signed at Washington, DC this 14th day of August 2007.
Richard Church,
Certifying Officer, Division of Trade Adjustment Assistance.

[FR Doc. E7-16886 Filed 8-24-07; 8:45 am]

BILLING CODE 4510-FN-P